DEPARTMENT OF ENERGY

Federal Energy Regulatory Commission

[Project No. 15340-001]

Pembroke Tidal Power Project, LLC; Notice of Preliminary Permit Application Accepted for Filing and Soliciting Comments, Motions To Intervene, and Competing Applications

On March 1, 2024, Pembroke Tidal Power Project, LLC, filed an application for a preliminary permit, pursuant to section 4(f) of the Federal Power Act (FPA), proposing to study the feasibility of the Pembroke Tidal Power Plant Project No. 15340 (project), to be located at the mouth of Cobscook Bay near the Town of Pembroke, Washington County, Maine. The sole purpose of a preliminary permit, if issued, is to grant the permit holder priority to file a license application during the permit term. A preliminary permit does not authorize the permit holder to perform any land-disturbing activities or otherwise enter upon lands or waters owned by others without the owners' express permission.

The proposed project would consist of the following new features: (1) a 9.8-foot-wide, 1,640-foot-long concrete tidal diversion dam; (2) a 118-foot-long, 141-foot-wide concrete powerhouse caisson located inline of the tidal diversion dam near the midpoint, housing four turbine-generators each with a generating capacity of 5.3 megawatts; (3) a 40-ton traveling gantry boat lift; (4) two impervious core, sand and crushed rock embankments (one 689-foot-long embankment from Leighton Neck, a peninsula south of the proposed project site, and one 164-foot-long embankment from Hershey Neck, a peninsula north of the proposed site); (5) a 2.5-mile-long, 35-kilovolt transmission line connecting the turbine-generator units to the regional grid; and (6) appurtenant facilities. The proposed project would have an estimated annual generation of 87,000-megawatt-hours.

Applicant Contact: Brad Fletcher, Pembroke Tidal Power Project, LLC, 62 Portland Rd., Ste. 25A, Kennebunk, ME 04043; phone: (612) 315-9053; email: brad@nestarenergy.com.

FERC Contact: Nathan Tatum; phone: (202) 502-7313, or by email at Nathan.Tatum@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. The first page of any filing should include docket number P-15340-001.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

More information about this project, including a copy of the application, can be viewed on the Commission's website (http://www.ferc.gov) using the “eLibrary” link. Enter the docket number, excluding the last three digits (P-15340), in the docket number field to access the document. For assistance, contact FERC Online Support.

Dated: March 28, 2024.
Debbie-Anne A. Reese,
Acting Secretary.

[FR Doc. 2024-07042 Filed 4-2-24; 8:45 am]

BILLING CODE 6717-01-P